DEPARTMENT OF LABOR

Employment and Training Administration

[NAFTA-05571 and NAFTA-05571A]

Wesley Industries, Inc. Bloomfield Hills, MI; Wesley Industries, Inc. New Haven Foundry, New Haven, MI; Amended Certification Regarding Eligibility To Apply for NAFTA-Transitional Adjustment Assistance

In accordance with Section 250(a), Subchapter D, Chapter 2, Title II, of the Trade Act of 1974, as amended (19 U.S.C. 2273), the Department of Labor issued a Certification of Eligibility to Apply for NAFTA Transitional Adjustment Assistance on December 31, 2001, applicable to workers of Wesley Industries, Inc., Bloomfield Hills, Michigan. The notice will be published soon in the Federal Register.

At the request of the petitioner, the Department reviewed the certification for workers of the subject firm. The company reports that worker separations occurred at the New Haven Foundry, New Haven, Michigan facility of Wesley Industries, Inc. The workers were engaged in the production of automotive engine components: cylinder heads.

The intent of the Department's certification is to include all workers of Wesley Industries, Inc. affected by increased imports of cylinder heads from Canada and Mexico.

Accordingly, the Department is amending the certification to include workers of Wesley Industries, Inc., New Haven Foundry, New Haven, Michigan.

The amended notice applicable to NAFTA-05571 is hereby issued as follows:

All workers of Wesley Industries, Inc., Bloomfield Hills, Michigan (NAFTA-5571) and Wesley Industries, New Haven Foundry, New Haven, Michigan (NAFTA-5571A) who became totally or partially separated from employment on or after November 20, 2000, through December 31, 2003, are eligible to apply for NAFTA-TAA under Section 250 of the Trade Act of 1974.

Signed in Washington, DC this 14th day of January 2002.
Linda G. Poole,
Certifying Officer, Division of Trade Adjustment Assistance.

[FR Doc. 02-2324 Filed 1-30-02; 8:45 am]

BILLING CODE 4510-30-M